FEDERAL COMMUNICATIONS COMMISSION

[CC Docket No. 99-200; DA 01-1409]

Common Carrier Bureau Clarifies That Future Filings of Numbering Utilization and Forecast Reports Must Include Numbering Resources in the 500 and 900 NPAs

AGENCY: Federal Communications Commission.

ACTION: Notice.

SUMMARY: On June 11, 2001, the Commission released a public notice clarifying that future filings of numbering utilization and forecast reports must include numbering resources in the 500 and 900 NPA. The intended effect of this action is to remind common carriers of the requirement for filing numbering utilization and forecast reports.

FOR FURTHER INFORMATION CONTACT: Cheryl L. Callahan at (202) 418-2320 or ccallaha@fcc.gov of the Common Carrier Bureau, Network Services Division. The address is: Network Services Division, Common Carrier Bureau, Federal Communications Commission, The Portals II, 445 12th Street, SW., Suite 6A207, Washington, DC 20554. The fax number is: (202) 418-2345. The TTY number is: (202) 418-0484.

SUPPLEMENTARY INFORMATION: Released: June 11, 2001. On March 31, 2000, the Commission released a Report and Order and Further Notice of Proposed Rulemaking that, among other things, required carriers to report semiannually on their actual and forecasted number usage.¹ Carriers are required to file reports twice each calendar year on or before February 1 for the six-month period ending December 31 and on or before August 1 for the six-month period ending June 30.²

¹ Numbering Resource Optimization, CC Docket No. 99-200, Report and Order and Further Notice of Proposed Rulemaking, 15 FCC Rcd 7574 (2000) (NRO Order).

² 47 CFR 52.15(f)(6).

Carriers that receive central office codes or NXX codes (i.e., code holders) from the North American Numbering Administrator (NANPA), or that receive thousands-blocks (i.e., block holders) from a Pooling Administrator, must report utilization and forecast data for all numbering resources in their inventory or “assigned to them”, including numbering resources in the 500 and 900 area codes or numbering plan areas (NPAs). In previous numbering utilization and forecast reports, carriers have not included information on the 500 and 900 NPAs. Because the NANPA has reported that the 500 and 900 NPAs are nearing exhaust, it is necessary to more closely track the use of 500 and 900 numbering resources and more closely monitor their projected exhaust. Moreover, the NRO Order mandated that “all carriers that receive numbering resources from the NANPA (i.e., code holders), or that receive numbering resources from a Pooling Administrator in thousands-blocks (i.e., block holders), report forecast and utilization data to the NANPA.” ³ Clearly 500 and 900 NPA's are covered by this mandate.

³ NRO Order at para. 40.

The Bureau has instructed the NANPA, in accordance with 47 CFR 52.15(g)(3)(4), to withhold numbering resources from carriers that fail to comply with these reporting requirements. Carriers are encouraged to report numbering resources in the 500 and 900 NPAs separately from those in the geographic NPAs. The NANPA will provide further guidance to carriers completing utilization and forecast data for 500 and 900 numbering resources on its web site, www.nanpa.com.

Federal Communications Commission.
Diane Griffin Harmon,
Acting Chief, Network Services Division, Common Carrier Bureau.

[FR Doc. 01-15181 Filed 6-14-01; 8:45 am]

BILLING CODE 6712-01-P